NUCLEAR REGULATORY COMMISSION

[NRC-2019-0074]

Information Collection: NRC Form 850, Request for Contractor Assignment(s)

AGENCY: Nuclear Regulatory Commission.

ACTION: Notice of submission to the Office of Management and Budget; request for comment.

SUMMARY: The U.S. Nuclear Regulatory Commission (NRC) has recently submitted a request for renewal of an existing collection of information to the Office of Management and Budget (OMB) for review. The information collection is entitled, NRC Form 850, “Request for Contractor Assignment(s).”

DATES: Submit comments by March 2, 2020. Comments received after this date will be considered if it is practical to do so, but the Commission is able to ensure consideration only for comments received on or before this date.

ADDRESSES: Submit comments directly to the OMB reviewer at: OMB Office of Information and Regulatory Affairs (OMB approval number 3150-0218), Attn: Desk Officer for the Nuclear Regulatory Commission, 725 17th Street NW, Washington, DC 20503; email: oira_submission@omb.eop.gov.

FOR FURTHER INFORMATION CONTACT: David Cullison, NRC Clearance Officer, U.S. Nuclear Regulatory Commission, Washington, DC 20555-0001; telephone: 301-415-2084; email: Infocollects.Resource@nrc.gov.

SUPPLEMENTARY INFORMATION:

I. Obtaining Information and Submitting Comments

A. Obtaining Information

Please refer to Docket ID NRC-2019-0074 when contacting the NRC about the availability of information for this action. You may obtain publicly-available information related to this action by any of the following methods:

• Federal Rulemaking website: Go to https://www.regulations.gov and search for Docket ID NRC-2019-0074. A copy of the collection of information and related instructions may be obtained without charge by accessing Docket ID NRC-2019-0074 on this website.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The supporting statement and NRC Form 850 are available in ADAMS under Accession Nos. ML20008D524 and ML19213A236.

• NRC's PDR: You may examine and purchase copies of public documents at the NRC's PDR, Room O1-F21, One White Flint North, 11555 Rockville Pike, Rockville, Maryland 20852.

• NRC's Clearance Officer: A copy of the collection of information and related instructions may be obtained without charge by contacting the NRC's Clearance Officer, David Cullison, Office of the Chief Information Officer, U.S. Nuclear Regulatory Commission, Washington, DC 20555-0001; telephone: 301-415-2084; email: Infocollects.Resource@nrc.gov.

B. Submitting Comments

The NRC cautions you not to include identifying or contact information in comment submissions that you do not want to be publicly disclosed in your comment submission. All comment submissions are posted at https://www.regulations.gov and entered into ADAMS. Comment submissions are not routinely edited to remove identifying or contact information.

If you are requesting or aggregating comments from other persons for submission to the OMB, then you should inform those persons not to include identifying or contact information that they do not want to be publicly disclosed in their comment submission. Your request should state that comment submissions are not routinely edited to remove such information before making the comment submissions available to the public or entering the comment into ADAMS.

II. Background

Under the provisions of the Paperwork Reduction Act of 1995 (44 U.S.C. Chapter 35), the NRC recently submitted a request for consolidation and renewal of an existing collection of information to OMB for review entitled, NRC Form 850, “Request for Contractor Assignment(s).” The NRC hereby informs potential respondents that an agency may not conduct or sponsor, and that a person is not required to respond to, a collection of information unless it displays a currently valid OMB control number.

The NRC published a Federal Register notice with a 60-day comment period on this information collection on October 10, 2019 (84 FR 54649).

1. The title of the information collection: NRC Form 850, “Request for Contractor Assignment(s).”

2. OMB approval number: 3150-0218.

3. Type of submission: Revision.

4. The form number if applicable: NRC Form 850.

5. How often the collection is required or requested: On Occasion.

6. Who will be required or asked to respond: NRC contractors, subcontractors and other individuals who are not NRC employees.

7. The estimated number of annual responses: 500.

8. The estimated number of annual respondents: 500.

9. An estimate of the total number of hours needed annually to comply with the information collection requirement or request: 85.

10. Abstract: 10 CFR part 10, “Criteria and Procedures for Determining Eligibility for Access to Restricted Data or National Security Information or an Employment Clearance,” establishes requirements that individuals requiring an access authorization and/or employment clearance must have an investigation of their background. NRC Form 850 will be used by the NRC to obtain information on NRC contractors, subcontractors, and other individuals who are not NRC employees and require access to NRC buildings, IT systems, sensitive information, sensitive unclassified information, or classified information.

Dated at Rockville, Maryland, this 27th day of January 2020.
For the Nuclear Regulatory Commission.
David C. Cullison,
NRC Clearance Officer, Office of the Chief Information Officer.

[FR Doc. 2020-01746 Filed 1-29-20; 8:45 am]

BILLING CODE 7590-01-P